DEPARTMENT OF THE TREASURY

Office of the Comptroller of the Currency

12 CFR Parts 4, 5, 7, 8, 28, and 34

[Docket ID OCC-2011-0006]

RIN 1557-AD41

Office of Thrift Supervision Integration; Dodd-Frank Act Implementation; Correction

AGENCY: Office of the Comptroller of the Currency, Treasury.

ACTION: Notice of proposed rulemaking; correction.

SUMMARY: The Office of the Comptroller of the Currency (OCC) published in the Federal Register on May 26, 2011, a notice of proposed rulemaking entitled “Office of Thrift Supervision Integration; Dodd-Frank Act Implementation.” Inadvertently, an incorrect E-mail address was used in the ADDRESSES caption for submission of public comments directly to the OCC via electronic mail. This document corrects that E-mail address.

FOR FURTHER INFORMATION CONTACT: Andra Shuster, Special Counsel, Heidi Thomas, Special Counsel, or Stuart Feldstein, Director, Legislative and Regulatory Activities Division, (202) 874-5090; Timothy Ward, Deputy Comptroller for Thrift Supervision, (202) 874-4468; or Frank Vance, Manager, Disclosure Services and Administrative Operations, Communications Division, (202)-874-5378, Office of the Comptroller of the Currency, 250 E Street, SW., Washington, DC 20219.

SUPPLEMENTARY INFORMATION: The OCC published a document in the Federal Register on May 26, 2011 (76 FR 30557) requesting comment on its notice of proposed rulemaking entitled “Office of Thrift Supervision Integration; Dodd-Frank Act Implementation.” The e-mail address for submission of comments was incorrectly included as “regs.comments@occ.treas.gov”. The correct address is “regs.comments@occ.treas.gov”.

In FR Doc. 2011-12859, published on May 26, 2011 (76 FR 30557), make the following correction. On page 30557, in the second column, remove “E-mail: regs.comments@occ.gov” and replace it with “E-mail: regs.comments@occ.treas.gov”.

Dated: June 1, 2011.
Julie L. Williams,
First Senior Deputy Comptroller and Chief Counsel.

[FR Doc. 2011-13887 Filed 6-3-11; 8:45 am]

BILLING CODE 4810-33-P